FEDERAL COMMUNICATIONS COMMISSION

[CG Docket No. 03-123; DA 18-354]

Pleading Cycle Established for Comment on Applications for State Certification for the Provision of Telecommunications Relay Service

AGENCY: Federal Communications Commission.

ACTION: Notice.

SUMMARY: In this document, the Commission seeks public comment on state applications for renewal of certification of their state telecommunications relay services (TRS) programs.

DATES: Interested parties may file comments no later than May 29, 2018. Reply comments may be filed no later than June 11, 2018.

ADDRESSES: Comments may be filed using the Commission's Electronic Comment Filing System (ECFS). See Electronic Filing of Documents in Rulemaking Proceedings, 63 FR 24121 (1998).

• Electronic Filers: Documents may be filed electronically using the internet by accessing ECFS: https://www.fcc.gov/ecfs/.

• Paper Filers: Parties who choose to file by paper must file an original and one copy of each filing.

• Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th Street SW, Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9050 Junction Drive, Annapolis Junction, MD 20701.

• U.S. Postal Service first-class, Express, and Priority mail must be addressed to 445 12th Street SW, Washington DC 20554.

FOR FURTHER INFORMATION CONTACT: Dana Wilson, Consumer and Governmental Affairs Bureau at: (202) 418-2247; email: Dana.Wilson@fcc.gov.

SUPPLEMENTARY INFORMATION: Interested parties may file comments on or before the dates indicated above in the Dates portion of this notice. All filings must reference CG Docket No. 03-123 and the relevant state identification number of the state or territory application for which comments are being submitted.

To request materials in accessible formats for people with disabilities (Braille, large print, electronic files, audio format), send an email to fcc504@fcc.gov or call the Consumer and Governmental Affairs Bureau at (202) 418-0530 (voice), (844) 432-2275 (videophone), or (202) 418-0432 (TTY). Document DA 18-354 can also be downloaded in Word or Portable Document Format (PDF) at: https://www.fcc.gov/general/telecommunications-relay-services-trs.

Synopsis

Notice is hereby given that the states and territories listed below have applied to the Commission for renewal of certification of their state TRS programs, for the five-year period from July 26, 2018 through July 25, 2023. Each state's and territory's application for certification must demonstrate that its TRS program complies with section 225 of the Communications Act and the Commission's rules governing the provision of TRS. This notice seeks public comment on the following state and territory applications for certification, which can be found on the Commission's website at: https://www.fcc.gov/general/trs-state-and-territories.

File No: TRS-10-17

Illinois Commerce Commission, State of Illinois

File No: TRS-36-17

Oregon Public Utility Commission, State of Oregon

File No: TRS-58-17

Pennsylvania Public Utility Commission, Commonwealth of Pennsylvania

File No: TRS-28-17

Telecommunications Regulatory Board, Puerto Rico

File No: TRS-61-17

Virgin Islands Public Service Commission, U.S. Virgin Islands

File No: TRS-18-17

Wyoming Department of Workforce Services, Division of Vocational Rehabilitation, State of Wyoming

Federal Communications Commission.
Eliot Greenwald,
Deputy Chief, Disability Rights Office, Consumer and Governmental Affairs Bureau.

[FR Doc. 2018-08958 Filed 4-26-18; 8:45 am]

BILLING CODE 6712-01-P